DEPARTMENT OF TRANSPORTATION

National Highway Traffic Safety Administration

[Docket No. NHTSA-2008-0189]

Notice of Cancelation of Public Meeting; BMW Mini Cooper S Vehicles; Exhaust Pipe Tips

AGENCY: National Highway Traffic Safety Administration (NHTSA), DOT.

ACTION: Notice of cancelation of public meeting.

SUMMARY: This notice announces a cancelation of NHTSA's December 17, 2008, public meeting regarding its Initial Decision that model year (MY) 2007 and certain MY 2008 BMW Mini Cooper S vehicles (subject vehicles) contain a defect related to motor vehicle safety in the vehicle's exhaust pipe tips.

FOR FURTHER INFORMATION CONTACT: AnnaLisa Nash, Office of Chief Counsel, National Highway Traffic Safety Administration, 1200 New Jersey Avenue, SE., Washington, DC 20590; (202) 366-5263.

SUPPLEMENTARY INFORMATION: NHTSA's public meeting regarding its Initial Decision that model year (MY) 2007 and certain MY 2008 BMW Mini Cooper S vehicles (subject vehicles) contain a defect related to motor vehicle safety in the vehicle's exhaust pipe tips, previously scheduled for Wednesday, December 17, 2008,¹ is now canceled. The matter is moot. On December 12, 2008, BMW of North America, LLC (BMW) submitted a Defect and Noncompliance Information Report to NHTSA under 49 CFR 573.6. BMW has thus initiated a safety recall on the subject vehicles within the meaning of the 49 U.S.C. 30118-30120 and 49 CFR Part 573.

¹ The agency published notice of the meeting on Friday, December 5, 2008 (Initial Decision That Certain BMW Mini Cooper S Vehicles Contain a Safety-Related Defect Regarding the Exhaust Pipe Tips; and Scheduling of a Public Meeting, 73 FR 235 (noticed Dec. 5, 2008)).

Authority: 49 U.S.C. 30118(a), (b); delegations of authority at 49 CFR 1.50(a) and 49 CFR 501.8.

Issued on: December 12, 2008.
Daniel C. Smith,
Associate Administrator for Enforcement.

[FR Doc. E8-29957 Filed 12-12-08; 4:15 pm]

BILLING CODE 4910-59-P